DEPARTMENT OF ENERGY

Federal Energy Regulatory Commission

Combined Notice of Filings #2

Take notice that the Commission received the following electric corporate filings:

Docket Numbers: EC14-42-000.

Applicants: Fowler Ridge IV Wind Farm LLC.

Description: Supplement to January 15, 2014 Application for Authorization under Section 203 of the Federal Power Act and Request for Waivers and Expedited Action of Fowler Ridge IV Wind Farm LLC.

Filed Date: 3/5/14.

Accession Number: 20140305-5058.

Comments Due: 5 p.m. ET 3/17/14.

Take notice that the Commission received the following electric rate filings:

Docket Numbers: ER10-1782-005.

Applicants: Tampa Electric Company.

Description: Tampa Electric Company submits Annual Compliance Report Regarding Operational Penalties for 2013.

Filed Date: 3/3/14.

Accession Number: 20140303-5109.

Comments Due: 5 p.m. ET 3/24/14.

Docket Numbers: ER10-3301-003; ER10-2757-003; ER10-2756-003.

Applicants: Arlington Valley, LLC, Griffith Energy LLC, GWF Energy LLC.

Description: Supplement to January 22, 2014 Notice of Change in Status of the Star West Companies.

Filed Date: 3/5/14.

Accession Number: 20140305-5061.

Comments Due: 5 p.m. ET 3/26/14.

Docket Numbers: ER13-281-002.

Applicants: Star Energy Partners LLC.

Description: Notice of Non-Material Change in Status of Star Energy Partners LLC.

Filed Date: 3/4/14.

Accession Number: 20140304-5211.

Comments Due: 5 p.m. ET 3/25/14.

Docket Numbers: ER14-1428-000.

Applicants: NRG Power Marketing LLC, GenOn Energy Management, LLC, Cabrillo Power I LLC, Cabrillo Power II LLC, El Segundo Energy Center LLC, NRG Delta LLC, El Segundo Power, LLC, Dynegy Moss Landing, LLC, CalPeak Power—Panoche LLC, CalPeak Power—Enterprise LLC, CalPeak Power LLC, NRG California South LP, CalPeak Power—Vaca Dixon LLC, Dynegy Marketing and Trade, LLC, CalPeak Power—El Cajon LLC, SHELL ENERGY NORTH AMERICA (US), LP, La Paloma Generating Company, LLC, High Plains Ranch II, LLC, Long Beach Generation LLC.

Description: Emergency Request for Temporary Waiver of the CAISO Operating Agreement and Shortened Comment Period of the Indicated CAISO Suppliers.

Filed Date: 3/4/14.

Accession Number: 20140304-5203.

Comments Due: 5 p.m. ET 3/11/14.

Docket Numbers: ER14-1429-000.

Applicants: Wolverine Power Supply Cooperative, Inc.

Description: Normal Alba IFA to be effective 2/28/2014.

Filed Date: 3/5/14.

Accession Number: 20140305-5041.

Comments Due: 5 p.m. ET 3/26/14.

Docket Numbers: ER14-1430-000.

Applicants: Xcel Energy Services Inc.

Description: Notice of Cancellation of Commitment and Dispatch Service Agreement, et. al., filed by Xcel Energy Services Inc., on behalf of Southwestern Public Service Company.

Filed Date: 3/5/14.

Accession Number: 20140305-5105.

Comments Due: 5 p.m. ET 3/26/14.

Docket Numbers: ER14-1431-000.

Applicants: ITC Midwest LLC.

Description: Filing of Joint Use Pole Agreement with State Center to be effective 5/5/2014.

Filed Date: 3/5/14.

Accession Number: 20140305-5119.

Comments Due: 5 p.m. ET 3/26/14.

Docket Numbers: ER14-1432-000.

Applicants: PJM Interconnection, L.L.C.

Description: Queue W2-061—Svc Agmnt No. 3748 & Cancellation of Service Agrmnt No. 2932 to be effective 2/4/2014.

Filed Date: 3/5/14.

Accession Number: 20140305-5125.

Comments Due: 5 p.m. ET 3/26/14.

Docket Numbers: ER14-1433-000.

Applicants: Century Aluminum Sebree LLC.

Description: Petition of Century Aluminum Sebree LLC for Limited Waiver.

Filed Date: 3/5/14.

Accession Number: 20140305-5155.

Comments Due: 5 p.m. ET 3/26/14.

Docket Numbers: ER14-689-003.

Applicants: Midcontinent Independent System Operator, Inc.

Description: 2014-03-05_Entergy IAs Succession Amendment Filing to be effective 12/19/2013.

Filed Date: 3/5/14.

Accession Number: 20140305-5164.

Comments Due: 5 p.m. ET 3/26/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2014.
Nathaniel J. Davis, Sr.,
Deputy Secretary.

[FR Doc. 2014-05519 Filed 3-12-14; 8:45 am]

BILLING CODE 6717-01-P